DEPARTMENT OF THE INTERIOR

Bureau of Land Management

[CO-100-05-1020-AL]

Notice of Public Meetings, Northwest Colorado Resource Advisory Council Meetings

AGENCY: Bureau of Land Management.

ACTION: Notice of Public Meetings.

SUMMARY: In accordance with the Federal Land Policy and Management Act (FLPMA) and the Federal Advisory Committee Act of 1972 (FACA), the U.S. Department of the Interior, Bureau of Land Management (BLM) Northwest Colorado Resource Advisory Council (RAC) will meet as indicated below.

DATES: The Northwest Colorado RAC meetings will be held February 9, 2006; May 11, 2006; August 10, 2006; and November 9, 2006.

ADDRESSES: The Northwest Colorado RAC meetings will be held February 9, 2006, at the BLM Grand Junction Field Office, located at 2815 H Rd., Grand Junction, CO; May 11, 2006, at the Colorado State University Cooperative Extension Service Office located on the Grand County Fairgrounds, Kremmling, CO; August 10, 2006, at the Holiday Inn located at 300 S. Colorado Hwy. 13 in Craig, CO; and November 9, 2006, at the Glenwood Springs Community Center located at 100 Wulfsohn Rd. in Glenwood Springs, CO.

All Northwest Colorado RAC meetings will begin at 8 a.m. and adjourn at approximately 3 p.m., and public comment periods regarding matters on the agenda will be held at 9:30 a.m. and 2 p.m. during each meeting.

FOR FURTHER INFORMATION CONTACT: Jamie Connell, BLM Glenwood Springs Field Manager, 50629 Hwy. 6&24, Glenwood Springs, CO; telephone 970-947-2800; or Melodie Lloyd, Public Affairs Specialist, 2815 H Rd., Grand Junction, CO, telephone 970-244-3097.

SUPPLEMENTARY INFORMATION: The Northwest Colorado RAC advises the Secretary of the Interior, through the Bureau of Land Management, on a variety of public land issues in Colorado.

Topics of discussion during Northwest Colorado RAC meetings may include the BLM National Sage Grouse Conservation Strategy, working group reports, recreation, fire management, land use planning, invasive species management, energy and minerals management, travel management, wilderness, wild horse herd management, land exchange proposals, cultural resource management, and other issues as appropriate. These meetings are open to the public. The public may present written comments to the RACs. Each formal RAC meeting will also have time, as identified above, allocated for hearing public comments. Depending on the number of persons wishing to comment and time available, the time for individual oral comments may be limited.

Dated: December 12, 2005.
Jamie Connell,
Glenwood Springs Field Manager, Lead Designated Federal Officer for the Northwest Colorado RAC.

[FR Doc. 05-24355 Filed 12-21-05; 8:45 am]

BILLING CODE 4310-AG-P